DEPARTMENT OF DEFENSE

Department of the Air Force

[25-RI-L-01]

Notice of Intent To Grant an Exclusive Patent License

AGENCY: Department of the Air Force, Department of Defense.

ACTION: Notice of intent to grant an exclusive patent license.

SUMMARY: Pursuant to the Bayh-Dole Act and implementing regulations, the Department of the Air Force hereby gives notice of its intent to grant an exclusive patent license to Intuidex, Inc. duly organized, validly existing, and in good standing in the State of Wyoming having a place of business at 1892 Mill Run CT, Hellertown, PA 18055.

DATES: Written objections must be filed no later than fifteen (15) calendar days after the date of publication of this Notice.

ADDRESSES: Submit written objections to Ryan Toner, AFRL/RI, 525 Brooks Road, Rome, New York 13441; or Email: ryan.toner@us.af.mil. Include Docket No. 25-RI-L-01 in the subject line of the message.

FOR FURTHER INFORMATION CONTACT: Ryan Toner, AFRL/RI, 525 Brooks Road, Rome, New York 13441; or Email: ryan.toner@us.af.mil; Office: 315-330-3340.

SUPPLEMENTARY INFORMATION:

Abstract of Patent Application(s)

A video information extraction system includes a memory to store a video; a textual information extraction module to obtain information about terms, entities, relations, and events from a ground truth caption corresponding to the video; and a video captioning module including an encoder (i) to receive the information about the terms, entities, relations, and events from the textual information extraction module, and (ii) to extract video features from the video; and a decoder to generate a text caption based on the extracted video features.

Intellectual Property

BISHOP et al., U.S. Patent No. 12,211,278, issued on 28 January 2025, and entitled “Deep Learning Based Video Information Extraction System.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2025-11188 Filed 6-17-25; 8:45 am]

BILLING CODE 3911-44-P